DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning Federal Assistance for Offsite Radiological Emergency Planning.

SUPPLEMENTARY INFORMATION: Executive Order 12657, dated November 18, 1988, charged the Federal Emergency Management Agency (FEMA) and other Federal agencies with emergency planning response in cases where State and local governments have declined or failed to prepare emergency plans. To implement Executive Order 12657, FEMA worked with the Nuclear Regulatory Commission (NRC) and other Federal agencies on the Federal Radiological Preparedness Coordinating Committee to develop regulation 44 CFR 352, Commercial Nuclear Power Plants: Emergency Preparedness Planning. This regulation establishes policies and procedures for a licensee submission of a certification of “decline or fail,” and for FEMA determination concerning Federal assistance to the licensee; and also establishes policies and procedures for providing Federal support for offsite planning and preparedness.

Collection of Information

Title: Federal Assistance for Offsite Radiological Emergency Planning.

Type of Information Collection: Extension of a currently approved collection.

OMB Number: 1660-0024.

Form Numbers: None.

Abstract: In accordance with Executive Order 12657, FEMA will need certain information from the licensee in order to form a decision as to whether or not a condition of “decline or fail” exists on the part of State or local governments (44 CFR 352.3-4). This information will be collected by the appropriate FEMA Regional Office or Headquarters. Also in accordance with the Executive Order, when a licensee requests Federal facilities or resources, FEMA will need information from the NRC as to whether the licensee has made maximum use of its resources and the extent to which the licensee has complied with 10 CFR 50.47 (c)(1) and 44 CFR 352.5. This information will be collected by the NRC and will be provided to FEMA through consultation between the two agencies.

Affected Public: Business or Other For Profit (Nuclear Regulatory Commission licensees of commercial nuclear power plants).

Estimated Total Annual Burden Hours: 160.

Annual Burden Hours
Project/activity (survey, form(s), focus group, etc.) | Number of respondents (A) | Frequency of responses (B) | Burden hours per respondent (C) | Annual responses (A×B) | Total annual burden hours (A×B×C)
Submit to the host FEMA Regional Director Certification that a decline or fail situation exists from the Chief Executive officer or Licensee | 1 | 1 | 40 | 1 | 40
Document why assistance is needed | 1 | 1 | 20 | 1 | 20
Document request to and responses from the Governor(s) or Local Officials with respects to efforts taken by Licensee to secure their participation, cooperation, commitment of resources or document timely correction of planning and preparedness failure | 1 | 1 | 40 | 1 | 40
Document Licensee's maximum feasible use of its resources | 1 | 1 | 30 | 1 | 30
Document efforts to secure the use of State and Local government and volunteer resources | 1 | 1 | 30 | 1 | 30
Total | 1 |  |  |  | 160

Estimated Cost: $4,171.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Vanessa E. Quinn, Chief, Radiological Emergency Preparedness Section, Nuclear and Chemical Hazards Branch, (202) 646-3664 for additional information. You may contact the Records Management Section for copies of the proposed collection of information at facsimile number (202) 646-3347 or e-mail address: FEMA-Information-Collections@dhs.gov.

Dated: September 27, 2005.
Darcy Bingham,
Branch Chief, Information Resources Management Branch, Information Technology Services Division.

[FR Doc. 05-19814 Filed 10-3-05; 8:45 am]

BILLING CODE 9110-21-P